ENVIRONMENTAL PROTECTION AGENCY

40 CFR Part 52

[085-1085b; FRL-6720-8]

Approval and Promulgation of Implementation Plans; State of Kansas; Correction

AGENCY: Environmental Protection Agency (EPA).

ACTION: Direct final rule; correction.

SUMMARY: On January 11, 2000 (65 FR 1545), EPA published a direct final action approving revisions to the Kansas State Implementation Plan (SIP). In the January 11, 2000, rule, EPA inadvertently made an incorrect reference to rule K.A.R. 28-19-20. We are correcting the reference in this document.

EFFECTIVE DATE: This action is effective June 27, 2000.

FOR FURTHER INFORMATION CONTACT: Christopher D. Hess at (913) 551-7213.

SUPPLEMENTARY INFORMATION: EPA published a SIP for Kansas that included revising and renumbering regulatory definitions, streamlining opacity requirements, expanding testing of gasoline delivery vehicles, and methods for calculating actual emissions. In the January 11, 2000, rule, FR DOC 00-27 (65 FR 1545) on page 1545, in the third column under the heading “D. Method for Determining Actual Emissions,” correct the reference “K.A.R. 28-19-20” to read “K.A.R. 28-19-210.”

Section 553 of the Administrative Procedure Act, 5 U.S.C. 553(b)(B), provides that, when an agency for good cause finds that notice and public procedures are impracticable, unnecessary, or contrary to the public interest, the agency may issue a rule without providing notice and an opportunity for public comment. We have determined that there is such good cause for making today's rule final without prior proposal and opportunity for comment because we are merely correcting an incorrect citation in a previous action. Thus, notice and public procedure are unnecessary.

Administrative Requirements

Under Executive Order 12866 (58 FR 51735, October 4, 1993), this action is not a “significant regulatory action” and therefore is not subject to review by the Office of Management and Budget. This action merely approves state law as meeting Federal requirements and imposes no additional requirements beyond those imposed by state law. Accordingly, the Administrator certifies that this rule will not have a significant economic impact on a substantial number of small entities under the Regulatory Flexibility Act (5 U.S.C. 601 et seq.). Because this rule merely corrects an incorrect citation in a previous action, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the states, on the relationship between the national government and the states, or on the distribution of power and responsibilities among the various levels of government, as specified in Executive Order 13132 (64 FR 43255, August 10, 1999), because it merely corrects a citation in a state rule implementing a Federal standard, and does not alter the relationship or the distribution of power and responsibilities established in the Clean Air Act (CAA). This rule also is not subject to Executive Order 13045 (62 FR 19885, April 23, 1997), because it is not economically significant.

In reviewing SIP submissions, our role is to approve state choices, provided that they meet the criteria of the CAA. In this context, in the absence of a prior existing requirement for the state to use voluntary consensus standards (VCS), we have no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. As required by section 3 of Executive Order 12988 (61 FR 4729, February 7, 1996), in issuing this rule, we have taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the Executive Order. This rule does not impose an information collection burden under the provisions of the Paperwork Reduction Act of 1995 (44 U.S.C. 3501 et seq.).

The Congressional Review Act (CRA), 5 U.S.C. 801 et seq., as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. As stated previously, we made such a good cause finding, including the reasons therefore and established an effective date of June 27, 2000. We will submit a report containing this rule and other required information to the United States Senate, the United States House of Representatives, and the Comptroller General of the United States prior to publication of the rule in the Federal Register. This correction to the Kansas SIP table is not a “major rule” as defined by 5 U.S.C. 804 et seq. (2).

Dated: June 15, 2000.
William Rice,
Acting Regional Administrator, Region 7.

Accordingly, in rule FR Doc. 00-270 published at 65 FR 1545, January 11, 2000, make the following corrections:

PART 52—[CORRECTED]

Subpart R—[Corrected]

1. On page 1547, column three, amendatory instruction 2.b., line 2, correct “16a’, ‘K.A.R. 28-19-20’ and ‘K.A.R.” to read “16a’ and ‘K.A.R.”.

2. On page 1547, column three, amendatory instruction 2.c., line 2, correct “ ‘K.A.R. 28-19-200’ and ‘K.A.R. 28-” to read “ ‘K.A.R. 28-19-200’, ‘K.A.R. 28-19-210’, and ‘K.A.R. 28-”.

3. On page 1548, in § 52.870, the table in paragraph (c) is corrected by removing the heading “Processing Operation Emissions” and the entry “K.A.R. 28-19-20” under it.

4. On page 1548, in § 52.870, the table in paragraph (c) is corrected by adding an entry “K.A.R. 28-19-210” in numerical order under the heading “General Provisions” to read as follows:

§ 52.870 Identification of plan.

* * * * *

(c) * * *

EPA—Approved Kansas Regulations
Kansas citation | Title | State effective date | EPA approval date | Explanation
* * * * * * *
General Provisions
* * * * * * *
K.A.R. 28-19-210 | Calculation of Actual Emissions | 11/22/93 | 01/11/00, 65 FR 1548
* * * * * * *

* * * * *

[FR Doc. 00-15837 Filed 6-26-00; 8:45 am]

BILLING CODE 6560-50-P